DEPARTMENT OF TRANSPORTATION

Federal Aviation Administration

Notice of Opportunity for Public Comment on Surplus Property Release at Bruce Campbell Field, Madison, MS

AGENCY: Federal Aviation Administration (FAA), DOT.

ACTION: Notice of intent to rule on land release request.

SUMMARY: Under the provisions of Title 49, U.S.C. 47153(c), notice is being given that the FAA is considering a request from the City of Madison, MS to waive the requirement that a 8.765-acre parcel of surplus property, located at the Bruce Campbell Field, be used for aeronautical purposes.

DATES: Comments must be received on or before December 13, 2006.

ADDRESSES: Comments on this notice may be mailed or delivered in triplicate to the FAA at the following address: Jackson Airports District Office, 100 West Cross Street, Suite B, Jackson, MS 39208-2307.

In addition, one copy of any comments submitted the FAA must be mailed or delivered to Mr. Denson Robinson, Director of Public Works, City of Madison, MS at the following address:

City of Madison, 525 Post Oak Road, Madison, MS 39110.

FOR FURTHER INFORMATION CONTACT: Jeffrey D. Orr, Program Manager, Jackson Airports District Office, 100 West Cross Street, Suite B, Jackson, MS 39208-2307, (601) 664-9885. The land release request may be reviewed in person at this same location.

SUPPLEMENTARY INFORMATION: The FAA is reviewing a request by the City of Madison, MS to release 8.765 acres of surplus property at the Bruce Campbell Field. The property will be purchased by City of Madison for R.O.W. for roadway improvements. The property is currently undeveloped. The net proceeds from the sale of this property will be used for airport purposes.

Any person may inspect the request in person at the FAA office listed above under FOR FURTHER INFORMATION CONTACT. In addition, any person may, upon request, inspect the request, notice and other documents germane to the request in person at the City of Madison.

Issued in Jackson, Mississippi, on October 31, 2006.
Rans D. Black,
Manager, Jackson Airports District Office, Southern Region.

[FR Doc. 06-9180 Filed 11-9-06; 8:45 am]

BILLING CODE 4910-13-M